DEPARTMENT OF ENERGY

Federal Energy Regulatory Commission

Combined Notice of Filings #1

May 6, 2008.

Take notice that the Commission has received the following Natural Gas Pipeline Rate and Refund Report filings:

Docket Numbers: RP96-312-182.

Applicants: Tennessee Gas Pipeline Company.

Description: Tennessee Gas Pipeline Company submits negotiated rate gas transportation arrangements between Tennessee and Connecticut Natural Gas Corp. and The Southern Connecticut Gas Co., respectively, pursuant to Tennessee's Rate Schedule FT-A.

Filed Date: 04/29/2008.

Accession Number: 20080430-0157.

Comment Date: 5 p.m. Eastern Time on Monday, May 12, 2008.

Docket Numbers: RP97-81-047.

Applicants: Kinder Morgan Interstate Gas Trans. LLC.

Description: Kinder Morgan Interstate Gas Transmission LLC submits Twenty-First Revised Sheet 4G.01 et al. to FERC Gas Tariff, Fourth Revised Volume 1-A, requesting an effective date May 2, 2008.

Filed Date: 05/01/2008.

Accession Number: 20080502-0193.

Comment Date: 5 p.m. Eastern Time on Tuesday, May 13, 2008.

Docket Numbers: RP99-176-161.

Applicants: Natural Gas Pipeline Company of America.

Description: Natural Gas Pipeline Company of America LLC submits Seventh Revised Sheet 26P.03 et al. as part of its FERC Gas Tariff, Sixth Revised Volume 1, to be effective May 1, 2008.

Filed Date: 05/01/2008.

Accession Number: 20080502-0195.

Comment Date: 5 p.m. Eastern Time on Tuesday, May 13, 2008.

Docket Numbers: RP99-176-162.

Applicants: Natural Gas Pipeline Company of America.

Description: Northern Gas Pipeline Company of America LLC submits Original Sheet 26J.04 et al. to its FERC Gas Tariff, Sixth Revised Volume 1, to be effective 5/1/08.

Filed Date: 05/01/2008.

Accession Number: 20080502-0197.

Comment Date: 5 p.m. Eastern Time on Tuesday, May 13, 2008.

Docket Numbers: RP06-569-005, RP07-376-002, RP01-245-027.

Applicants: Transcontinental Gas Pipe Line Corp.

Description: Transcontinental Gas Pipeline Corporation submits First Revised Forty-Eighth Revised Sheet 27 et al. to its FERC Gas Tariff, Third Revised Volume 1.

Filed Date: 05/01/2008.

Accession Number: 20080502-0202.

Comment Date: 5 p.m. Eastern Time on Tuesday, May 13, 2008.

Docket Numbers: RP08-262-001.

Applicants: Northern Natural Gas Company.

Description: Northern Natural Gas Company submits Eighth Revised Sheet 226 et al. to its FERC Gas Tariff, Fifth Revised Volume 1, to be effective on June 1, 2008.

Filed Date: 05/01/2008.

Accession Number: 20080502-0196.

Comment Date: 5 p.m. Eastern Time on Tuesday, May 13, 2008.

Docket Numbers: RP08-272-001.

Applicants: Transcontinental Gas Pipe Line Corp.

Description: Transcontinental Gas Pipe Line Corporation submits Sub First Revised Forty-Fourth Revised Sheet 28C et al. to its FERC Gas Tariff, Third Revised Volume 1, effective 11/1/07 et al.

Filed Date: 05/01/2008.

Accession Number: 20080502-0194.

Comment Date: 5 p.m. Eastern Time on Tuesday, May 13, 2008.

Docket Numbers: RP08-356-000.

Applicants: Texas Gas Transmission, LLC.

Description: Texas Gas Transmission, LLC submits First Revised Sheet 210 to its FERC Gas Tariff, Second Revised Volume 1, to be effective June 1, 2008.

Filed Date: 05/01/2008.

Accession Number: 20080502-0184.

Comment Date: 5 p.m. Eastern Time on Tuesday, May 13, 2008.

Docket Numbers: RP08-357-000.

Applicants: ANR Pipeline Company.

Description: ANR Pipeline Company submits report of Operational Purchases and Sales of Gas for the twelve-month period beginning January 1, 2007, and ending on December 31, 2007.

Filed Date: 05/01/2008.

Accession Number: 20080502-0185.

Comment Date: 5 p.m. Eastern Time on Tuesday, May 13, 2008.

Docket Numbers: RP08-358-000.

Applicants: CenterPoint Energy Gas Transmission Co.

Description: CenterPoint Energy Gas Transmission submits the tariff sheets listed on Appendix A, to be included as part of its FERC Gas Tariff, Sixth Revised Volume 1.

Filed Date: 05/01/2008.

Accession Number: 20080502-0186.

Comment Date: 5 p.m. Eastern Time on Tuesday, May 13, 2008.

Docket Numbers: RP08-359-000.

Applicants: Gulfstream Natural Gas System, LLC.

Description: Gulfstream Natural Gas System, LLC submits Eighth Revised Sheet 7 of its FERC Gas, Original Volume 1 to be effective on June 1, 2008.

Filed Date: 05/01/2008.

Accession Number: 20080502-0188.

Comment Date: 5 p.m. Eastern Time on Tuesday, May 13, 2008.

Docket Numbers: RP08-360-000.

Applicants: Northern Natural Gas Company.

Description: Northern Natural Gas Company submits Fourth Revised Sheet 54B et al. of its FERC Gas Tariff, Fifth Revised Volume 1 to be effective on June 1, 2008.

Filed Date: 05/01/2008.

Accession Number: 20080502-0187.

Comment Date: 5 p.m. Eastern Time on Tuesday, May 13, 2008.

Docket Numbers: RP08-361-000.

Applicants: Wyoming Interstate Company, Ltd.

Description: Wyoming Interstate Company, Ltd submits Second Revised Volume 2 et al., to become effective on July 1, 2008.

Filed Date: 05/01/2008.

Accession Number: 20080502-0189.

Comment Date: 5 p.m. Eastern Time on Tuesday, May 13, 2008.

Docket Numbers: RP08-362-000.

Applicants: Cheyenne Plains Gas Pipeline Company LLC.

Description: Cheyenne Plains Gas Pipeline Company submits First Revised Sheet 308 et al. to its FERC Gas Tariff Original Volume 1 to become effective on June 1, 2008.

Filed Date: 05/01/2008.

Accession Number: 20080502-0190.

Comment Date: 5 p.m. Eastern Time on Tuesday, May 13, 2008.

Docket Numbers: RP08-363-000.

Applicants: ANR Pipeline Company.

Description: ANR Pipeline Company submits the Forty-Ninth Revised Sheet 17 reflecting ANR's proposed change to its Cashout to $1.0625 per dth, effective June 1, 2008.

Filed Date: 05/01/2008.

Accession Number: 20080502-0201.

Comment Date: 5 p.m. Eastern Time on Tuesday, May 13, 2008.

Docket Numbers: RP08-364-000.

Applicants: Northern Natural Gas Company.

Description: Northern Natural Gas Company submits the 29th Revised Sheet 54 part of its FERC Gas Tariff, Fifth Revised Volume 1 to effective on 11/1/08.

Filed Date: 05/01/2008.

Accession Number: 20080502-0191.

Comment Date: 5 p.m. Eastern Time on Tuesday, May 13, 2008.

Docket Numbers: RP08-365-000.

Applicants: Cascade Natural Gas Corporation. Cascade Natural Gas Company.

Description: Petition for Waiver of FERC's policy regarding the “tying” of interstated pipeline released capacity etc. of Cascade Natural Gas Corporation.

Filed Date: 04/30/2008.

Accession Number: 20080502-5087.

Comment Date: 5 p.m. Eastern Time on Monday, May 12, 2008.

Docket Numbers: RP08-366-000.

Applicants: Paiute Pipeline Company.

Description: Paiute Pipeline Company submits Fifteenth Revised Sheet 161 to FERC Gas Tariff, Second Revised Volume 1-A.

Filed Date: 05/02/2008.

Accession Number: 20080505-0113.

Comment Date: 5 p.m. Eastern Time on Wednesday, May 14, 2008.

Docket Numbers: RP08-367-000.

Applicants: Gulf South Pipeline Company, LP.

Description: Gulf South Pipeline Company LP submits Sixth Revised Sheet 1 et al. to its FERC Gas Tariff, Sixth Revised Volume 1, to be effective June 1, 2008.

Filed Date: 05/02/2008.

Accession Number: 20080505-0114.

Comment Date: 5 p.m. Eastern Time on Wednesday, May 14, 2008.

Docket Numbers: CP06-34-005, CP06-421-004.

Applicants: Transcontinental Gas Pipe Line Corporation.

Description: Transcontinental Gas Pipe Line Corporation submits First Revised Sheet No. 40 and First Revised Sheet 40Q to its FERC Gas Tariff, Third Revised Volume 1, proposed effective dates of 11/1/07 and 12/13/07.

Filed Date: 05/01/2008.

Accession Number: 20080505-0227.

Comment Date: 5 p.m. Eastern Time on Tuesday, May 13, 2008.

Docket Numbers: CP03-302-005, CP04-345-003.

Applicants: Cheyenne Plains Gas Pipeline.

Description: Cheyenne Plains Gas Pipeline Company submits the cost and revenue study to comply with requirements of FERC's 12/20/04, Order Granting Clarification and Rehearing, In Part, and Denying Motion.

Filed Date: 04/29/2008.

Accession Number: 20080502-0192.

Comment Date: 5 p.m. Eastern Time on Tuesday, May 13, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis,
Deputy Secretary.

[FR Doc. E8-10485 Filed 5-9-08; 8:45 am]

BILLING CODE 6717-01-P